DEPARTMENT OF HEALTH AND HUMAN SERVICES

Administration on Aging

2005 White House Conference on Aging Listening Sessions

AGENCY: Administration on Aging, HHS.

ACTION: Notice.

SUMMARY: Pursuant to section 10(a) of the Federal Advisory Committee Act as amended (5 U.S.C. Appendix 2), notice is hereby given of listening sessions on December 7 in Indianapolis, Indiana and December 8 in Chicago, Illinois. The listening sessions will be open to the public, with attendance limited to space available. Individuals who plan to attend and need special assistance, such as sign language interpretation or other reasonable accommodations, should inform the contact person listed below in advance of the meeting.

Dates, Times, and Addresses: Tuesday, December 7, 2004, from 4:15 to 5:15 p.m. at the Westin Hotel, 50 South Capitol Avenue, Indianapolis, Indiana 46204 in conjunction with the 49th Annual Governor's Conference on Aging; Wednesday, December 8, 2004, from 9 a.m. to 11:30 a.m. at the Hyatt Regency Hotel, 151 East Wacker Drive, Regency D, Chicago, Illinois 60601 in conjunction with the 2004 Illinois Governor's Conference on Aging. Because of verifying logistical issues, the listening sessions fall under the 15-day notification requirement.

FOR FURTHER INFORMATION CONTACT: For general questions concerning the two listening sessions: Nora Andrews at (301) 443-2874. For specific listening sessions: December 7 in Indianapolis, IN, Ernestine Kasper, (317) 232-7125, or e-mail Ernestine.kasper@fssa.in.gov; December 8 in Chicago, IL, Matt Wescott, (217) 785-3357, e-mail matt.wescott@aging.state.il.us.

SUPPLEMENTARY INFORMATION: As the Baby Boom generation approaches retirement age, it is essential that we evaluate and develop any needed policies to ensure that this national resource remains a vital part of society. The 2005 White House Conference on Aging (WHCoA) is seeking input from a wide array of stakeholders as we develop an overarching agenda and plan for the 2005 WHCoA. For example, how can we enable both “rising” seniors and mature seniors to continue actively participating in and contributing to personal, community and national well-being? Looking forward over the next decade and beyond, how can we, as individuals, businesses, private organizations, and Government, in partnership, better harness the vast potential that exists within an aging America.

Josefina G. Carbonell,
Assistant Secretary for Aging.

[FR Doc. 04-26438 Filed 11-30-04; 8:45 am]

BILLING CODE 4154-01-P